DEPARTMENT OF ENERGY

Federal Energy Regulatory Commission

Combined Notice of Filings

Take notice that the Commission has received the following Natural Gas Pipeline Rate and Refund Report filings:

Filings Instituting Proceedings

Docket Numbers: PR13-61-000.

Applicants: Houston Pipe Line Company LP.

Description: Tariff filing per 284.123(b)(2)/.: Houston Pipe Line Company LP Petition for Firm Rate Approval & SOC Changes to be effective 9/1/2013.

Filed Date: 8/30/13.

Accession Number: 20130830-5033.

Comments Due: 5 p.m. ET 9/20/13.

Docket Numbers: PR13-61-000.

Applicants: Columbia Gas of Maryland, Inc.

Description: Tariff filing per 284.123/.224: Statement of Operating Conditions to be effective 8/30/2013.

Filed Date: 8/30/13.

Accession Number: 20130830-5107.

Comments Due: 5 p.m. ET 9/20/13.

Docket Numbers: RP13-1315-000.

Applicants: Enable Gas Transmission, LLC.

Description: Tariff filing per 154.203: Negotiated Rate Filing—September 2013—DCP Compliance to be effective 9/6/2013.

Filed Date: 9/6/13.

Accession Number: 20130906-5140.

Comments Due: 5 p.m. ET 9/18/13.

Docket Numbers: RP13-1316-000.

Applicants: Enable Mississippi River Transmission, L.

Description: Petition for Temporary Waiver of Tariff Provisions and Request for Expedited Action and Shortened Comment Period of Enable Mississippi River Transmission, LLC under RP13-1316.

Filed Date: 9/6/13.

Accession Number: 20130906-5153.

Comments Due: 5 p.m. ET 9/13/13.

Docket Numbers: RP13-1317-000.

Applicants: Alliance Pipeline L.P.

Description: Tariff filing per 154.204: Hess Corporation to Hess Tioga Gas Plant to be effective 9/1/2013.

Filed Date: 9/6/13.

Accession Number: 20130906-5168.

Comments Due: 5 p.m. ET 9/18/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-556-004.

Applicants: Gulf Shore Energy Partners, LP.

Description: Gulf Shore Energy Partners, LP GAS TARIFF ORIGINAL VOLUME NO. 1—Compliance to be effective 8/28/2013.

Filed Date: 8/29/13.

Accession Number: 20130829-5062.

Comments Due: 5 p.m. ET 9/10/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2013.
Nathaniel J. Davis, Sr.,
Deputy Secretary.

[FR Doc. 2013-22307 Filed 9-12-13; 8:45 am]

BILLING CODE 6717-01-P